DEPARTMENT OF ENERGY

Federal Energy Regulatory Commission

Combined Notice of Filings

Take notice that the Commission has received the following Natural Gas Pipeline Rate and Refund Report filings:

Docket Number: PR20-69-000.

Applicants: Black Hills Wyoming Gas, LLC.

Description: Tariff filing per 284.123(b),(e)+(g): Black Hills Wyoming Gas, LLC Statement of Rates Filing to be effective 6/1/2020.

Filed Date: 6/30/2020.

Accession Number: 202006305127.

Comments Due: 5 p.m. ET 7/21/2020.

284.123(g) Protests Due: 5 p.m. ET 8/31/2020.

Docket Numbers: RP10-837-000.

Applicants: Dominion Transmission, Inc.

Description: Report Filing: DETI—Operational Gas Sales Report—2020.

Filed Date: 6/30/20.

Accession Number: 20200630-5169.

Comments Due: 5 p.m. ET 7/13/20.

Docket Numbers: RP10-900-000.

Applicants: Dominion Transmission, Inc.

Description: Report Filing: DETI—Informational Fuel Report—2020.

Filed Date: 6/30/20.

Accession Number: 20200630-5170.

Comments Due: 5 p.m. ET 7/13/20.

Docket Numbers: RP18-1126-004.

Applicants: Transcontinental Gas Pipe Line Company, LLC.

Description: Report Filing: Rate Case Settlement Refund Report—Docket No. RP18-1126.

Filed Date: 7/1/20.

Accession Number: 20200701-5177.

Comments Due: 5 p.m. ET 7/13/20.

Docket Numbers: RP20-992-000.

Applicants: Gas Transmission Northwest LLC.

Description: § 4(d) Rate Filing: Negotiated Rate Agreements (NGTL) to be effective 7/1/2020.

Filed Date: 7/1/20.

Accession Number: 20200701-5029.

Comments Due: 5 p.m. ET 7/13/20.

Docket Numbers: RP20-993-000.

Applicants: Natural Gas Pipeline Company of America.

Description: § 4(d) Rate Filing: Amendment to a Negotiated Rate Agreement- Macquarie Energy KT#145833 to be effective 7/1/2020.

Filed Date: 7/1/20.

Accession Number: 20200701-5043.

Comments Due: 5 p.m. ET 7/13/20.

Docket Numbers: RP20-994-000.

Applicants: Natural Gas Pipeline Company of America.

Description: § 4(d) Rate Filing: Amendment to a Negotiated Rate Agreement- Macquarie Energy KT#149966 to be effective 7/1/2020.

Filed Date: 7/1/20.

Accession Number: 20200701-5047.

Comments Due: 5 p.m. ET 7/13/20.

Docket Numbers: RP20-995-000.

Applicants: Columbia Gas Transmission, LLC.

Description: § 4(d) Rate Filing: TCRA 2020 Out-of-Cycle to be effective 8/1/2020.

Filed Date: 7/1/20.

Accession Number: 20200701-5109.

Comments Due: 5 p.m. ET 7/13/20.

Docket Numbers: RP20-996-000.

Applicants: MIGC LLC.

Description: § 4(d) Rate Filing: Annual Fuel Filing to be effective 8/1/2020.

Filed Date: 7/1/20.

Accession Number: 20200701-5130.

Comments Due: 5 p.m. ET 7/13/20.

Docket Numbers: RP20-997-000.

Applicants: Rockies Express Pipeline LLC.

Description: § 4(d) Rate Filing: REX 2020-07-01 Negotiated Rate Agreements Amendments to be effective 6/26/2020.

Filed Date: 7/1/20.

Accession Number: 20200701-5140.

Comments Due: 5 p.m. ET 7/13/20.

Docket Numbers: RP20-998-000.

Applicants: Columbia Gulf Transmission, LLC.

Description: Compliance filing TRA 2020 Pro Forma.

Filed Date: 7/1/20.

Accession Number: 20200701-5213.

Comments Due: 5 p.m. ET 7/13/20.

Docket Numbers: RP20-999-000.

Applicants: West Texas Gas, Inc.

Description: § 4(d) Rate Filing: Tariff Filing to Update Spot Price Index to be effective 8/1/2020.

Filed Date: 7/1/20.

Accession Number: 20200701-5233.

Comments Due: 5 p.m. ET 7/13/20.

Docket Numbers: RP20-1000-000.

Applicants: Gulf South Pipeline Company, LLC.

Description: § 4(d) Rate Filing: Cap Rel Neg Rate Agmt (Constellation 52882 to Exelon 52921) to be effective 7/1/2020.

Filed Date: 7/1/20.

Accession Number: 20200701-5234.

Comments Due: 5 p.m. ET 7/13/20.

Docket Numbers: RP20-1001-000.

Applicants: Gulf South Pipeline Company, LLC.

Description: § 4(d) Rate Filing: Cap Rel Neg Rate Agmts (Marathon 51753, 51754 to Spire 52926, 52927) to be effective 7/1/2020.

Filed Date: 7/1/20.

Accession Number: 20200701-5235.

Comments Due: 5 p.m. ET 7/13/20.

Docket Numbers: RP20-1002-000.

Applicants: Enable Gas Transmission, LLC.

Description: § 4(d) Rate Filing: Negotiated Rate Filing—July 1 2020 CERC to be effective 7/1/2020.

Filed Date: 7/1/20.

Accession Number: 20200701-5264.

Comments Due: 5 p.m. ET 7/13/20.

Docket Numbers: RP20-1003-000.

Applicants: Columbia Gas Transmission, LLC.

Description: § 4(d) Rate Filing: CNX Negotiated Rate Agmt Amendment to be effective 7/1/2020.

Filed Date: 7/1/20.

Accession Number: 20200701-5265.

Comments Due: 5 p.m. ET 7/13/20.

Docket Numbers: RP20-1004-000.

Applicants: WTG Hugoton, LP.

Description: § 4(d) Rate Filing: Annual Fuel Retention Percentage Filing 2020-2021 to be effective 8/1/2020.

Filed Date: 7/1/20.

Accession Number: 20200701-5268.

Comments Due: 5 p.m. ET 7/13/20.

Docket Numbers: RP20-1005-000.

Applicants: Equitrans, L.P.

Description: § 4(d) Rate Filing: Negotiated Rate Capacity Release Agreements—7/1/2020 to be effective 7/1/2020.

Filed Date: 7/1/20.

Accession Number: 20200701-5270.

Comments Due: 5 p.m. ET 7/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2020.
Nathaniel J. Davis, Sr.,
Deputy Secretary.

[FR Doc. 2020-14801 Filed 7-8-20; 8:45 am]

BILLING CODE 6717-01-P